DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission

DATE AND TIME: October 17, 2019, 10:00 a.m.

PLACE: Room 2C, 888 First Street NE, Washington, DC 20426.

STATUS: Open.

MATTERS TO BE CONSIDERED: Agenda * Note—items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1060th—MEETING, OPEN MEETING
[October 17, 2019, 10:00 a.m.]
Item No. | Docket No. | Company
ADMINISTRATIVE
A-1 | AD20-1-000 | Agency Administrative Matters.
A-2 | AD20-2-000 | Customer Matters, Reliability, Security and Market Operations.
A-3 | AD06-3-000 | Winter 2019-2020 Energy Market Assessment.
ELECTRIC
E-1 | ER19-460-000 ER19-460-001 ER19-460-002 ER19-460-003 EL19-101-000 | Southwest Power Pool, Inc.
E-2 | ER19-469-000 ER19-469-001 EL19-100-000 | PJM Interconnection, L.L.C.
E-3 | EL19-90-000 EL19-91-000 EL19-92-000 | ISO New England Inc. PJM Interconnection, L.L.C. Southwest Power Pool, Inc.
E-4 | RR19-8-000 | North American Electric Reliability Corporation.
E-5 | OMITTED
E-6 | EC19-99-000 | Empire Generating Co, LLC.
E-7 | ER19-1661-000 ER19-1661-001 | PJM Interconnection, L.L.C. and Virginia Electric and Power Company.
E-8 | ER19-1357-000 ER18-2358-001 (consolidated) | GridLiance High Plains LLC. Southwest Power Pool, Inc.
E-9 | ER10-2564-009 ER10-2600-009 ER10-2289-009 EL19-44-000 | Tucson Electric Power Company. UNS Electric, Inc. UniSource Energy Development Company.
E-10 | ER18-1953-003 | Gulf Power Company.
E-11 | ER18-1418-001 | Westar Energy, Inc.
E-12 | ER17-801-004 ER17-802-003 ER17-803-002 (not consolidated) | Constellation Power Source Generation, LLC. Exelon Generation Company, LLC. Handsome Lake Energy, LLC.
E-13 | ER18-2362-001 | NTE Ohio, LLC.
E-14 | EL19-81-000 | Nevada Hydro Company, Inc. v. California Independent System Operator Corporation.
E-15 | OMITTED
E-16 | ER17-2201-001 | Exelon Fitzpatrick, LLC.
E-17 | ER17-1198-002 | Ameren Illinois Company.
E-18 | ER18-1899-004 | Midcontinent Independent System Operator, Inc.
E-19 | ER18-136-004 ER18-137-004 | Midcontinent Independent System Operator, Inc. PJM Interconnection, L.L.C.
E-20 | ER18-1730-001 | PJM Interconnection, L.L.C.
E-21 | ER19-945-001 | PJM Interconnection, L.L.C.
E-22 | EL18-203-001 | Owensboro Municipal Utilities v. Louisville Gas and Electric Company and Kentucky Utilities Company.
E-23 | OMITTED
E-24 | EL18-177-001 | CXA La Paloma, LLC v. California Independent System Operator Corporation.
E-25 | EL18-61-000 | Public Citizen, Inc. v. PJM Interconnection, L.L.C.
E-26 | EL14-37-000 | PJM Interconnection, L.L.C.
GAS
G-1 | PR19-42-000 | Arkansas Oklahoma Gas Corporation.
G-2 | RP19-420-000 | Wyoming Interstate Company, L.L.C.
G-3 | RP19-395-000 | Natural Gas Pipeline Company of America LLC.
G-4 | RP19-352-004 | Sea Robin Pipeline Company, LLC.
G-5 | RP19-872-001 | RRI Energy Services, LLC.; Morgan Stanley Capital Group Inc.
G-6 | OR18-7-001 OR18-12-001 OR18-17-001 OR18-21-001 (consolidated) | Epsilon Trading, LLC, Chevron Products Company, and Valero Marketing and Supply Company v. Colonial Pipeline Company. BP Products North America, Inc., Trafigura Trading LLC and TCPU, Inc. v. Colonial Pipeline Company. TransMontaigne Product Services LLC v. Colonial Pipeline Company. CITGO Petroleum Corporation v. Colonial Pipeline Company.
HYDRO
H-1 | PL20-1-000 | Revision to Policy Statement on Consultation with Indian Tribes in Commission Proceedings.
H-2 | P-14983-000 | Tomlin Energy LLC.
H-3 | P-2079-081 | Placer County Water Agency.
CERTIFICATES
C-1 | CP19-52-000 | Natural Gas Pipeline Company of America LLC.
C-2 | CP18-186-000 | Transcontinental Gas Pipe Line Company, LLC.

Issued: October 10, 2019.
Nathaniel J. Davis, Sr.,
Deputy Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2019-22673 Filed 10-11-19; 4:15 pm]

BILLING CODE 6717-01-P